DEPARTMENT OF DEFENSE

Department of the Army

Advisory Committee Meeting Notice

AGENCY: Department of the Army, DOD.

ACTION: Notice of meeting.

SUMMARY: In accordance with Section 10(a)(2) of the Federal Advisory Committee Act (Pub. L. 92-463), announcement is made of the following meeting:

Name of Committee: Army Education Advisory Committee.

Date: September 13, 2007.

Place: The Pentagon, Room 2E477, Arlington, VA 20310.

Time: 0900-1700.

Proposed Agenda: The meeting agenda includes an overview of Army training and a Pentagon tour, an overview of Federal Advisory committees, an update on the five subcommittees: Defense Language Institute Foreign Language Center, Command and General Staff College, Army War College, Distance Learning/Training Technology Applications, and the Reserve Officer Training Corps, and discussions focused on education and training within the Department of the Army.

Purpose of the Meeting: To provide for the continuous exchange of information and ideas for training and education between the U.S. Army Training and Doctrine Command (TRADOC), HQ Department of the Army, and the academic and business communities.

FOR FURTHER INFORMATION CONTACT: All communications regarding this committee should be addressed to Mr. Carlton Hardy, at Commander, Headquarters TRADOC, ATTN: ATTG-CT (Mr. Hardy), Fort Monroe, VA 23651-5000; e-mail: carlton.hardy@us.army.mil.

SUPPLEMENTARY INFORMATION: Meeting of the advisory committee is open to the public. Because of restricted meeting space and building security, attendance will be limited to those persons who have notified the Advisory Committee Management Office in writing at least five days prior to the meeting of their intention to attend. Contact Mr. Hardy (carlton.hardy@us.army.mil) for meeting agenda and specific locations.

Any member of the public may file a written statement with the committee before, during, or after the meeting. To the extent that time permits, the committee chairman may allow public presentations or oral statements at the meeting.

Robert E. Seger,
Senior Executive Service, Assistant Deputy Chief of Staff, G-3/5/7.

[FR Doc. 07-4057 Filed 8-17-07; 8:45 am]

BILLING CODE 3710-08-M